ENVIRONMENTAL PROTECTION AGENCY

[FRL-7781-5, Docket ID No. A-94-34]

Clean Air Act Advisory Committee: Correction to Notice Soliciting Interest in Participating on a Task Force on the Performance of the Title V Operating Permits Program

AGENCY: Environmental Protection Agency (EPA).

ACTION: Correction notice.

SUMMARY: The EPA issued a notice in the Federal Register of May 17, 2004 (69 FR 27921), concerning formation of a task force to determine the performance of the title V operating permits program and public meetings to be held by the task force. This document is being issued to correct errors in that notice.

FOR FURTHER INFORMATION CONTACT: Mr. Ray Vogel, Information Transfer and Program Implementation Division, Office of Air Quality Planning and Standards, Mail Code C304-04, U.S. Environmental Protection Agency, Research Triangle Park, North Carolina 27711; telephone (919) 541-3153; fax number: (919) 541-5509; and e-mail address: vogel.ray@epa.gov.

SUPPLEMENTARY INFORMATION:

I. What Does This Correction Do?

This notice corrects omissions in the May 17 notice concerning how to submit written comments to the task force on the performance of the title V operating program, which may affect those who planned to submit comments, but did not plan to attend the task force meetings. Specifically, the May 17 notice did not mention the EDOCKET system for submitting comments electronically. As a result, the public was not informed that their comments would be made available to others over the internet. The notice also did not include the correct EDOCKET number. The correct number is OAR-2004-0075. Finally, the notice did not specify when the comment period would be open for this action. The comment period will open starting June 15, 2004, and will close March 1, 2005.

II. How Do I Submit Comments?

A. EDOCKET (Preferred)

The EPA's electronic public docket system is an “anonymous access” system, which means EPA will not know your identity, e-mail address, or other contact information unless you provide it in the body of your comment. Please note: EPA's policy is to not edit your comment; therefore, any identifying or contact information provided in the body of a comment will be included in the official public docket. To submit a comment through EDOCKET, go to http://www.epa.gov/edocket. Once in the system, select “search,” then key in OAR-2004-0075 (the docket identification (ID) number for the title V performance task force).

B. E-Mail

Comments may also be sent by electronic mail (e-mail) to: A-and-R-docket@epa.gov, attention Docket ID No. OAR-2004-0075. In contrast to EPA's electronic public docket, EPA's email system is not an “anonymous access” system. The EPA's e-mail system automatically captures your e-mail address and includes it as part of the comment that is placed in the official public docket. Submit an email comment now.

C. Disk, CD-ROM, or Mail

If you submit a disk or CD-ROM, EPA recommends that you include your name, mailing address, e-mail address, or other contact information in the body of your comment. Also include this contact information on the outside of any disk or CD-ROM you submit, and in any cover letter accompanying the disk or CD-ROM. This ensures that you can be identified as the submitter of the comment and allows EPA to contact you in case EPA cannot read your comment. If you submit mail, please enclose two copies. Send to: U.S. Environmental Protection Agency, Air and Radiation Docket and Information Center, Mail Code 6102T, 1200 Pennsylvania Avenue, NW., Washington, DC 20460, Attention Docket ID No. OAR-2004-0075.

D. Hand Delivery or Courier

Deliver comments to: Public Reading Room, Room B102, EPA West Building, 1301 Constitution Avenue, NW., Washington, DC 20004, Attention Docket ID No. OAR-2004-0075.

Deliveries are accepted only between 8:30 a.m. and 4:30 p.m. eastern standard time (e.s.t.), Monday through Friday, excluding Federal holidays.

E. By Facsimile

Fax your comments to the EPA Docket Center at (202) 566-1741, Attention Docket ID. No. OAR-2004-0075.

III. How Can I Get Copies of This Document and Other Related Information?

A. Docket

The EPA has established an official public docket for this action under docket ID number OAR-2004-0075. The official public docket consists of the documents specifically referenced in this action, any public comments received, and other information related to this action. Although a part of the official docket, the public docket does not include confidential business information (CBI) or other information whose disclosure is restricted by statute. The official public docket is the collection of materials that is available for public viewing at the Public Information and Records Integrity Branch, Room 119, Crystal Mall 2, 1921 Jefferson Davis Highway, Arlington, VA. This docket facility is open from 8:30 a.m. to 4 p.m., Monday through Friday, excluding legal holidays. The docket telephone number is (703) 305-5805.

B. Electronic Access

You may access this Federal Register document electronically through the EPA Internet under the “Federal Register” listings at http://www.epa.gov/fedrgstr/. An electronic version of the public docket is available through EPA's electronic public docket and comment system, EPA dockets. You may use EPA dockets at: http://www.epa.gov/edocket/ to submit or view public comments, access the index listing of the contents of the official public docket, and to access those documents in the public docket that are available electronically. Once in the system, select “search,” then key in the appropriate docket ID number. The docket number for this action is OAR-2004-0075.

Dated: June 24, 2004.
Jeffrey S. Clark,
Acting Director, Office of Air Quality Planning and Standards.

[FR Doc. 04-15103 Filed 7-1-04; 8:45 am]

BILLING CODE 6560-50-P